FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
March 1, 2018 thru March 31, 2018
03/01/2018
20171924 | S | Ingevity Corporation; Koch Industries Inc.; Ingevity Corporation.
20180782 | G | Starboard Value and Opportunity Fund Ltd.; Newell Brands Inc.; Starboard Value and Opportunity Fund Ltd.
20180787 | G | Continental Grain Company; Bunge Limited; Continental Grain Company.
20180790 | G | E*Trade Financial Corporation; Capital One Financial Corporation; E*Trade Financial Corporation.
20180813 | G | LivaNova, plc.; CardiacAssist, Inc. (dba TandemLife); LivaNova, plc.
03/05/2018
20180717 | G | SS&C Technologies Holdings, Inc.; DST Systems, Inc.; SS&C Technologies Holdings, Inc.
20180806 | G | Bock Capital EU Acquisitions MAC SARL; Thomas J. Redmond, Jr.; Bock Capital EU Acquisitions MAC SARL.
20180809 | G | Waste Connections, Inc.; Waste Technologies LLC; Waste Connections, Inc.
20180811 | G | Dr. Patrick Soon-Shiong; tronc. Inc.; Dr. Patrick Soon-Shiong.
20180818 | G | Carbonite, Inc.; Dell Technologies Inc.; Carbonite, Inc.
20180820 | G | Clayton, Dubilier & Rice Fund X, L.P.; Three-Twenty-Three Family Holdings, LLC 2; Clayton, Dubilier & Rice Fund X, L.P.
03/06/2018
20180737 | G | Andrea Pignataro; Hellman & Friedman Capital Partners VII, L.P.; Andrea Pignataro.
20180760 | G | GI Partners Fund V LP; Togetherwork Holdings, LLC; GI Partners Fund V LP.
20180817 | G | Viavi Solutions, Inc.; Cobham plc; Viavi Solutions, Inc.
20180843 | G | Michael Angelakis; Comcast Corporation; Michael Angelakis.
03/07/2018
20180773 | G | Golden Gate Capital Opportunity Fund, L.P.; West First Management Corp.; Golden Gate Capital Opportunity Fund, L.P.
20180826 | G | Centene Corporation; CMG Holding Company, LLC; Centene Corporation.
03/08/2018
20171840 | G | KKR North America Fund XI (AMG) LLC; Envision Healthcare Corporation; KKR North America Fund XI (AMG) LLC.
03/09/2018
20180793 | G | AP VIII Olympus VoteCo, LLC; Nasdaq, Inc.; AP VIII Olympus VoteCo, LLC.
20180803 | G | EFR Group Holdings S.a.r.l.; The Kroger Co.; EFR Group Holdings S.a.r.l.
20180812 | G | Blackstone Capital Partners (Cayman) VII L.P.; 2003 TIL Settlement; Blackstone Capital Partners (Cayman) VII L.P.
20180814 | G | Cevian Capital II G.P. Limited; Autoliv, Inc.; Cevian Capital II G.P. Limited.
20180824 | G | Trilantic Capital Partners V (North America) AIV A L.P.; M. Ryan McGrath; Trilantic Capital Partners V (North America) AIV A L.P.
20180825 | G | Trilantic Capital Partners V (North America) AIV A L.P.; Michael S. McGrath; Trilantic Capital Partners V (North America) AIV A L.P.
20180832 | G | Compagnie Financiere Rupert; YOOX Net-A-Porter Group S.p.A.; Compagnie Financiere Rupert.
20180834 | G | HGGC Fund III-A, L.P.; H.I.G. Middle Market LBO Fund II, L.P.; HGGC Fund III-A, L.P.
20180840 | G | Sean E. Reilly; Lamar Advertising Company; Sean E. Reilly.
20180841 | G | Kevin P. Reilly, Jr.; Lamar Advertising Company; Kevin P. Reilly, Jr.
20180844 | G | Thomas J. Campbell; Morrill M. Hall, Jr. and Judy C. Hall; Thomas J. Campbell.
20180846 | G | Bain Capital Asia Fund III, L.P.; World Wide Packaging, LLC; Bain Capital Asia Fund III, L.P.
20180857 | G | BDCM Opportunity Fund IV, L.P.; GST AutoLeather, Inc.; BDCM Opportunity Fund IV, L.P.
20180861 | G | Centene Corporation; RGA International Corporation; Centene Corporation.
03/12/2018
20180847 | G | Rhone Partners V L.P.; Fogo de Chao, Inc.; Rhone Partners V L.P.
20180848 | G | Kemper Corporation; Infinity Property and Casualty Corporation; Kemper Corporation.
20180849 | G | Oleg Deripaska; Oleg Deripaska; Oleg Deripaska.
20180852 | G | Andeavor; Plains All American Pipeline, L.P.; Andeavor.
20180853 | G | Granite Construction Incorporated; Layne Christensen Company; Granite Construction Incorporated.
20180873 | G | Sequoia Capital Global Growth Fund II, L.P.; Doordash, Inc.; Sequoia Capital Global Growth Fund II, L.P.
03/13/2018
20180573 | G | SCR-Sibelco N.V.; Fairmount Santrol Holdings Inc.; SCR-Sibelco N.V.
20180810 | G | HSI Holdings I, Inc.; Allscripts Healthcare Solutions, Inc.; HSI Holdings I, Inc.
20180838 | G | Varian Medical Systems, Inc.; Sirtex Medical Limited; Varian Medical Systems, Inc.
03/14/2018
20180845 | G | Andeavor; Delek US Holdings, Inc.; Andeavor.
20180850 | G | JELD-WEN HOLDING, inc.; American Building Supply, Inc.; JELD-WEN HOLDING, inc.
20180878 | G | The Mark and Robyn Jones Descendants Trust 2014; Texas Wasatch Insurance Holdings Group, LLC; The Mark and Robyn Jones Descendants Trust 2014.
03/15/2018
20180871 | G | RH plc; Promotora de Inversiones Mexicanas, S.A.; CRH plc.
03/16/2018
20180869 | G | AEA Investors Small Business Fund III LP; AEA Investors Fund VI AIV LP; AEA Investors Small Business Fund III LP.
20180870 | G | LyondellBasell Industries N.V.; A. Schulman, Inc.; LyondellBasell Industries N.V.
20180887 | G | Blackstone Capital Partners (Cayman) VII L.P.; PennWell Corporation; Blackstone Capital Partners (Cayman) VII L.P.
20180891 | G | General Mills, Inc.; Blue Buffalo Pet Products, Inc.; General Mills, Inc.
20180893 | G | Byron Allen Folks; Bain Capital Integral Investors 2006, LLC; Byron Allen Folks.
20180894 | G | FR XIII Foxtrot AIV, L.P.; Long Point Capital Fund III, L.P.; FR XIII Foxtrot AIV, L.P.
20180901 | G | Platinum Equity Capital Kestrel Partners, L.P.; GenOn Energy, Inc.; Platinum Equity Capital Kestrel Partners, L.P.
20180910 | G | Grupo Financiero Inbursa, S.A. de C. V.; M&G Resins USA, LLC; Grupo Financiero Inbursa, S.A. de C. V.
20180918 | G | ServiceMaster Global Holdings, Inc.; Copesan Services, Inc.; ServiceMaster Global Holdings, Inc.
03/19/2018
20180839 | G | Uniti Group Inc.; U.S. TelePacific Holdings Corp.; Uniti Group Inc.
20180876 | G | GI Partners Fund V LP; Trivest Fund V, L.P.; GI Partners Fund V LP.
20180892 | G | GI Partners Fund V LP; Shamrock Capital Growth Fund III, L.P.; GI Partners Fund V LP.
20180903 | G | Platinum Equity Capital Partners III, L.P.; American & Efird Global, L.P.; Platinum Equity Capital Partners III, L.P.
03/20/2018
20180822 | G | Total Produce plc; David H. Murdock; Total Produce plc.
20180900 | G | Spinner US AcquireCo Inc.; Student Transportation Inc.; Spinner US AcquireCo Inc.
20180904 | G | S&P Global Inc.; Kensho Technologies Inc.; S&P Global Inc.
03/22/2018
20180796 | G | Focus Financial Partners, LLC; Nigro Karlin Segal & Feldstein, LLP; Focus Financial Partners, LLC.
20180851 | G | Temenos Group AG; Fidessa Group PLC; Temenos Group AG.
20180865 | G | Centene Corporation; MHM Services, Inc.; Centene Corporation.
03/23/2018
20180883 | G | Third Point Partners Qualified L.P.; United Technologies Corporation; Third Point Partners Qualified L.P.
20180884 | G | Third Point Reinsurance Ltd.; United Technologies Corporation; Third Point Reinsurance Ltd.
20180885 | G | Third Point Offshore Fund, Ltd.; United Technologies Corporation; Third Point Offshore Fund, Ltd.
20180886 | G | Third Point Ultra, Ltd.; United Technologies Corporation; Third Point Ultra, Ltd.
03/26/2018
20180912 | G | Howard John Simon and Armity A. Simon; Dignity Health; Howard John Simon and Armity A. Simon.
20180921 | G | The Clorox Company; HPH Specialized International Fund 1, LP; The Clorox Company.
20180922 | G | Hyeon Joo Park; Bruno del Ama; Hyeon Joo Park.
20180931 | G | DFW Capital Partners V, L.P.; Distinguished LLC; DFW Capital Partners V, L.P.
20180936 | G | ACON Equity Partners IV, L.P.; TV Cooperative Company; ACON Equity Partners IV, L.P.
20180937 | G | Centene Corporation; RxAdvance Corporation; Centene Corporation.
20180939 | G | Welsh Carson Anderson & Stowe XII, L.P.; Wells Fargo & Company; Welsh Carson Anderson & Stowe XII, L.P.
20180940 | G | AXA S.A.; XL Group Ltd; AXA S.A.
20180945 | G | Riverstone Global Energy and Power Fund V (FT), L.P.; Riverstone V FW Holdings, LLC; Riverstone Global Energy and Power Fund V (FT), L.P.
20180949 | G | Coller International Partners VII, L.P.; Nordic Capital VII Beta, L.P.; Coller International Partners VII, L.P.
03/27/2018
20180856 | G | Roche Holding Ltd; Flatiron Health, Inc.; Roche Holding Ltd.
20180864 | G | OEP VI Feeder (Cayman), L.P.; Telefonakiebolaget LM Ericsson; OEP VI Feeder (Cayman), L.P.
20180880 | G | Novacap TMT V, L.P.; Horizon Telcom, Inc.; Novacap TMT V, L.P.
20180919 | G | Jollibee Foods Corporation; Richard E. Schaden; Jollibee Foods Corporation.
20180920 | G | Jollibee Foods Corporation; Richard F. Schaden; Jollibee Foods Corporation.
20180935 | G | salesforce.com, Inc.; Aktion Partners, LLC; salesforce.com, Inc.
20180948 | G | BlueLinx Holdings Inc.; Charlesbank Equity Fund VII, LP; BlueLinx Holdings Inc.
20180951 | G | Centerbridge Credit Partners Master AIV III, L.P.; Seadrill Ltd.; Centerbridge Credit Partners Master AIV III, L.P.
03/28/2018
20180866 | G | WMIH Corp.; FIF HE Holdings LLC; WMIH Corp.
20180943 | G | Cognizant Technology Solutions Corporation; Edgewater Growth Capital Partners III, LP; Cognizant Technology Solutions Corporation.
03/29/2018
20180890 | G | The Veritas Capital Fund V, L.P.; James E. Miller; The Veritas Capital Fund V, L.P
03/30/2018
20180863 | G | PS Holdings Independent Trust; United Technologies Corporation; PS Holdings Independent Trust.
20180877 | G | Antin Infrastructure Partners III FPCI; Oak Hill Capital Partners IV (Onshore), L.P.; Antin Infrastructure Partners III FPCI.
20180952 | G | Ensono Holdings LLC, Series 1; Azim Premji; Ensono Holdings LLC, Series 1.
20180958 | G | Permira VI L.P. 1; Corporate Risk Holdings I, Inc.; Permira VI L.P. 1.
20180959 | G | KKR Core Holding Company LLC; Dental Acquisition Corporation; KKR Core Holding Company LLC.
20180960 | G | Al Ladder (Luxembourg) Midco S.a.r.l.; Laird PLC; Al Ladder (Luxembourg) Midco S.a.r.l.
20180964 | G | Madison Industries Holdings LLC; SMJA Holdings, LLC; Madison Industries Holdings LLC.
20180967 | G | VF Corporation; HF Investment Holdings, LLC; VF Corporation.
20180972 | G | ENGIE S.A.; Edison International; ENGIE S.A.
20180973 | G | KKR Energy Income and Growth Fund I L.P.; Devon Energy Corporation; KKR Energy Income and Growth Fund I L.P.
20180976 | G | Stephen Kircher; OZRE Holdings XVI LLC; Stephen Kircher.
20180979 | G | Sonoco Products Company; Highland Packaging Solutions, Inc.; Sonoco Products Company.
20180986 | G | Comvest Investment Partners V, L.P.; Koorosh Yaraghi; Comvest Investment Partners V, L.P.
20180993 | G | Gregory E. Lindberg; Michael Joseph Nordlicht; Gregory E. Lindberg.

For Further Information Contact: Theresa Kingsberry, Program Support Specialist, Federal Trade Commission Premerger Notification Office, Bureau of Competition, Room CC-5301, Washington, DC 20024, (202) 326-3100.

By direction of the Commission.
Donald S. Clark,
Secretary.

[FR Doc. 2018-07697 Filed 4-12-18; 8:45 am]

BILLING CODE 6750-01-P